DEPARTMENT OF AGRICULTURE

Submission for OMB Review; Comment Request

The Department of Agriculture will submit the following information collection requirement(s) to OMB for review and approval under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by October 24, 2025. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: NASS Data Security Requirements for Accessing Confidential Data.

OMB Control Number: 0535-0274.

Summary of Collection: Title III of the Foundations for Evidence-Based Policymaking Act of 2018 (hereafter referred to as the Evidence Act) mandates that OMB establish a Standard Application Process (SAP) for requesting access to certain confidential data assets. Specifically, the Evidence Act requires OMB to establish a common application process through which agencies, the Congressional Budget Office, State, local, and Tribal governments, researchers, and other individuals, as appropriate, may apply for access to confidential data assets collected, accessed, or acquired by a statistical agency or unit. The National Agricultural Statistics Service (NASS) is proposing a substantive change to the NASS Data Security Requirements for Accessing Confidential Data. This information collection supports NASS's data security requirements for individuals approved to access confidential data through the SAP. The proposed change will allow NASS to collect administrative personally identifiable information (PII) from all researchers—regardless of citizenship—who are approved to access the NASS Data Lab.

Need and Use of the Information: Data collected, accessed, or acquired by statistical agencies and units is vital for developing evidence on conditions, characteristics, and behaviors of the public and on the operations and outcomes of public programs and policies. Access to confidential data on businesses, households, and individuals from federal statistical agencies and units enables agencies, the Congressional Budget Office, State, local, and Tribal governments, researchers, and other individuals to contribute evidence-based information to research and policy questions on economic, social, and environmental issues of national, regional, and local importance. This evidence can benefit stakeholders, the broader public, and policymakers and program managers at all levels of government.

Specifically, researchers will be required to complete the OF-306 (Declaration for Federal Employment) to support onboarding into USDA's human capital management system. This step is necessary to establish a formal relationship between NASS and the researcher and to ensure compliance with federal identity verification and personnel tracking requirements. The OF-306 collects administrative PII such as Social Security Number (SSN), date of birth, sex, and citizenship. This information will be submitted directly to REE Onboarding and will not be retained or processed by NASS.

The collection and maintenance of this data are governed by USDA's Privacy Act System of Records Notice (SORN) OCFO/NFC-1—Systems for Personnel, Payroll, and Time & Attendance (89 FR 5481, January 29, 2024). The OF-306 is approved under OMB Control No. 3206-0182. As such, burden associated with completing the OF-306 is not included in this ICR.

Description of Respondents: Individuals or Households.

Number of Respondents: 200.

Frequency of Responses: Reporting: Annually.

Total Burden Hours: 484.

National Agricultural Statistics Service

Title: Vegetable Surveys.

OMB Control Number: 0535-0037.

Summary of Collection: The primary function of the National Agricultural Statistics (NASS) is to prepare and issue current official state and national estimates of crop and livestock production, prices and disposition. The Vegetable Surveys Program obtains basic agricultural statistics for fresh market and processing vegetables in major producing States. The vegetable program has two types of utilization: some crops are processing only, some are fresh market only, and others are dual crops (both processing and fresh market). The vegetable program surveys growers, who are contacted in November and asked to report acres planted and harvested, quantity of vegetables produced, and how much of their crop was sold through fresh markets or for processing along with the correlating prices.

Need and Use of the Information: NASS will collect information to estimate acreage intended to plant, acreage planted, acreage harvested, yield/production, price, and utilization for the various crops. The estimates provide vital statistics for growers, processors, and marketers to use in making production and marketing decisions.

Description of Respondents: Farms.

Number of Respondents: 11,140.

Frequency of Responses: Reporting: Annually; Other (seasonally).

Total Burden Hours: 4,998.

Levi S. Harrell,
Departmental Information Collection Clearance Officer.

[FR Doc. 2025-18509 Filed 9-23-25; 8:45 am]

BILLING CODE 3410-20-P